DEPARTMENT OF TRANSPORTATION

Surface Transportation Board

[STB Finance Docket No. 35029]

Eastern Washington Gateway Railroad Company—Lease and Operation Exemption—Washington State Department of Transportation

Eastern Washington Gateway Railroad Company (EWGR), a noncarrier, has filed a verified notice of exemption under 49 CFR 1150.31 to acquire by lease and to operate approximately 107.8 miles of rail line that are in the process of being acquired by the Washington State Department of Transportation (WSDOT) from Palouse River and Coulee City Railroad, Inc. (PCC).¹ The line to be leased and operated, known as the CW Branch, extends from a connection with BNSF Railway Company at milepost 1.0 near Cheney, WA, to the end of track at milepost 108.8, in Coulee City, WA.

¹ A related notice of exemption was filed on May 21, 2007 in STB Finance Docket No. 35024, Washington State Department of Transportation—Acquisition Exemption—Palouse River and Coulee City Railroad, Inc., wherein WSDOT seeks to acquire the line involved in this proceeding and other lines from PCC.

This transaction is related to STB Finance Docket No. 35030, U.S. Rail Partners, Ltd.—Continuance in Control Exemption—Eastern Washington Gateway Railroad Company, wherein U.S. Rail Partners, Ltd. (USRP), seeks to continue in control of EWGR upon its becoming a Class III rail carrier.

EWGR certifies that its projected revenues as a result of this transaction will not exceed those that would qualify it as a Class III rail carrier and will not exceed $5 million.

The earliest this transaction may be consummated is the June 15, 2007 effective date of the exemption (30 days after the exemption was filed).²

² On May 18, 2007, EWGR and USRP filed a joint petition requesting that the Board partially revoke the class exemptions as necessary to allow the exemptions in this proceeding and in STB Finance Docket No. 35030 to become effective on June 4, 2007, instead of on June 15. That request will be addressed in a separate Board decision.

If the verified notice contains false or misleading information, the exemption is void ab initio. Petitions to revoke the exemption under 49 U.S.C. 10502(d) may be filed at any time. The filing of a petition to revoke will not automatically stay the transaction. Petitions for stay must be filed no later than June 8, 2007, unless the Board grants the joint petition of EWGR and USRP to make their exemptions effective sooner, in which case the due date for stays will be established in the Board's decision acting on the joint petition.

An original and 10 copies of all pleadings, referring to STB Finance Docket No. 35029, must be filed with the Surface Transportation Board, 395 E Street, SW., Washington, DC 20423-0001. In addition, a copy of each pleading must be served on William C. Sippel, 29 North Wacker Drive, Suite 920, Chicago, IL 60606-2832.

Board decisions and notices are available on our Web site at http://www.stb.dot.gov.

Decided: May 24, 2007.
By the Board, David M. Konschnik, Director, Office of Proceedings.
Vernon A. Williams,
Secretary.

[FR Doc. E7-10636 Filed 5-31-07; 8:45 am]

BILLING CODE 4915-01-P